DEPARTMENT OF THE INTERIOR

Bureau of Land Management

[A2407-014-004-065516; #O2412-014-004-047181.1; LLNM920000]

Notice of Proposed Reinstatement of BLM New Mexico Terminated Oil and Gas Leases: NMNM 141402

AGENCY: Bureau of Land Management, Interior.

ACTION: Notice of lease reinstatement.

SUMMARY: In accordance with the Mineral Leasing Act of 1920, as amended, the Bureau of Land Management (BLM) received a petition for reinstatement of terminated competitive oil and gas lease NMNM 141402 from Tascosa Energy Partners, LLC . The lessee timely filed a petition for reinstatement of the competitive oil and gas lease located in Eddy County, New Mexico. The lessee paid the required rentals accruing from the date of termination. No leases have been issued that affect these lands. The BLM proposes to reinstate the lease.

FOR FURTHER INFORMATION CONTACT: Julieann Serrano, Supervisory Land Law Examiner, Branch of Adjudication, Bureau of Land Management New Mexico State Office, 301 Dinosaur Trail, Santa Fe, New Mexico 87508, (505) 954-2149, jserrano@blm.gov. Individuals in the United States who are deaf, deafblind, hard of hearing, or have a speech disability may dial 711 (TTY, TDD, or TeleBraille) to access telecommunications relay services. Individuals outside the United States should use the relay services offered within their country to make international calls to the point-of- contact in the United States.

SUPPLEMENTARY INFORMATION: The lessee agrees to new lease terms for rental of $20 per acre, or fraction thereof, per year, and a royalty rate of 16.67 percent. The lessee agreed to amended stipulations. The lessee paid the required administration fee and has reimbursed the BLM for the cost of publishing this notice.

The lessee meets the requirements for reinstatement of the lease per sec. 31 (d) and (e) of the Mineral Leasing Act of 1920 (30 U.S.C. 188). The BLM is proposing to reinstate lease NMNM 141402 effective January 1, 2022, for the remainder of the primary term, subject to: the original terms and conditions of the lease; amended stipulations; increased rental of $20 per acre; and increased royalty of 16.67 percent.

(Authority: 30 U.S.C. 188 (e)(4) and 43 CFR 3108.23.)

Joseph B. Peterson,
Acting Deputy State Director, Minerals.

[FR Doc. 2025-21454 Filed 11-26-25; 8:45 am]

BILLING CODE 4331-23-P